DEPARTMENT OF AGRICULTURE

Agricultural Marketing Service

[Docket No. FV03-996-1-notice]

Peanut Standards Board

AGENCY: Agricultural Marketing Service, USDA.

ACTION: Request for nominations.

SUMMARY: The Farm Security and Rural Investment Act of 2002 requires the Secretary of Agriculture to establish a Peanut Standards Board (Board) for the purpose of advising the Secretary on quality and handling standards for domestically produced and imported peanuts. The initial Board was appointed by the Secretary and announced on December 5, 2002. USDA seeks nominations of individuals to be considered for selection as Board members for terms of office ending June 30, 2006. Nominees sought by this action would replace those producer and industry representatives who are serving for the initial one-year term of office that ends June 30, 2003. The Board consists of 18 members representing producers and industry representatives.

DATES: Written nominations must be received on or before May 19, 2003.

ADDRESSES: Nominations should be sent to Kenneth G. Johnson, Marketing Order Administration Branch, Fruit and Vegetable Programs, AMS, USDA, Suite 2A04, Unit 155, 4700 River Road, Riverdale, MD 20737; telephone: (301) 734-5243; Fax: (301) 734-5275; e-mail: Kenneth Johnson@usda.gov.

SUPPLEMENTARY INFORMATION: Section 1308 of the Farm Security and Rural Investment Act of 2002 (Public Law 107-171) (Farm Bill) requires the Secretary of Agriculture to establish a Peanut Standards Board (Board) for the purpose of advising the Secretary regarding the establishment of quality and handling standards for all domestic and imported peanuts marketed in the United States. The Farm Bill requires the Secretary to consult with the Board before the Secretary establishes or changes quality and handling standards for peanuts.

The Farm Bill provides that the Board consist of 18 members, with three producers and three industry representatives from the States specified in each of the following producing regions: (a) Southeast (Alabama, Georgia, and Florida); (b) Southwest (Texas, Oklahoma, and New Mexico); and (c) Virginia/Carolina (Virginia and North Carolina).

For the initial appointments, the Farm Bill required the Secretary to stagger the terms of the members so that: (a) One producer member and peanut industry member from each peanut producing region serves a one-year term; (b) one producer member and peanut industry member from each peanut producing region serves a two-year term; and (c) one producer member and peanut industry member from each peanut producing region serves a three-year term. The term “peanut industry representatives” includes, but is not limited to, representatives of shellers, manufacturers, buying points, marketing associations and marketing cooperatives and other like entities. The Farm Bill exempted the appointment of the Board from the requirements of the Federal Advisory Committee Act. The initial Board was appointed by the Secretary and announced on December 5, 2002.

USDA invites those individuals, organizations, and groups affiliated with the categories listed above to nominate individuals for membership on the Board. Nominees sought by this action would replace one producer and one industry member from each peanut producing region who served for the initial one-year term of office that ends June 30, 2003. New members would serve for a 3-year term of office ending June 30, 2006.

Nominees should complete a Peanut Standards Board Background Information form and submit it to Mr. Johnson. Copies of this form may be obtained at the internet site: http://www.ams.usda.gov/fv/peanut-farmbill.htm, or from Mr. Johnson. USDA seeks a diverse group of members representing the peanut industry.

Equal opportunity practices will be followed in all appointments to the Board in accordance with USDA policies. To ensure that the recommendations of the Board have taken into account the needs of the diverse groups within the peanut industry, membership shall include, to the extent practicable, individuals with demonstrated ability to represent minorities, women, persons with disabilities, and limited resource agriculture producers.

Authority: Section 1308 of Public Law 107-171.

Dated: April 10, 2003.
A.J. Yates,
Administrator, Agriculture Marketing Service.

[FR Doc. 03-9408 Filed 4-16-03; 8:45 am]

BILLING CODE 3410-02-P